DEPARTMENT OF TRANSPORTATION

Federal Aviation Administration

14 CFR Part 39

[Docket No. FAA-2018-0494; Product Identifier 2017-NM-182-AD]

RIN 2120-AA64

Airworthiness Directives; ATR-GIE Avions de Transport Régional Airplanes

AGENCY: Federal Aviation Administration (FAA), DOT.

ACTION: Notice of proposed rulemaking (NPRM).

SUMMARY: We propose to supersede Airworthiness Directive (AD) 2006-07-26, which applies to all ATR-GIE Avions de Transport Régional Model ATR42 airplanes. AD 2006-07-26 requires a one-time inspection to detect discrepancies (e.g., cracking, loose/sheared fasteners, distortion) of the upper skin and rib feet of the outer wing boxes, and repair if necessary. Since we issued AD 2006-07-26, we have received reports of cracking in these same areas on other Model ATR42 airplanes. This proposed AD would require repetitive inspections to detect discrepancies of the upper skin and rib feet of the outer wing boxes, and repair if necessary. We are proposing this AD to address the unsafe condition on these products.

DATES: We must receive comments on this proposed AD by July 16, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact ATR-GIE Avions de Transport Régional, 1 Allée Pierre Nadot, 31712 Blagnac Cedex, France; telephone +33 (0) 5 62 21 62 21; fax +33 (0) 5 62 21 67 18; email continued.airworthiness@atr-aircraft.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0494; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Section, Transport Standards Branch, FAA, 2200 South 216th St., Des Moines, WA 98198; telephone and fax 206-231-3220.

SUPPLEMENTARY INFORMATION:

Comments Invited

We invite you to send any written relevant data, views, or arguments about this proposal. Send your comments to an address listed under the ADDRESSES section. Include “Docket No. FAA-2018-0494; Product Identifier 2017-NM-182-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2006-07-26, Amendment 39-14553 (71 FR 18205, April 11, 2006) (“AD 2006-07-26”) for all ATR-GIE Avions de Transport Régional Model ATR42 airplanes. AD 2006-07-26 requires a one-time inspection to detect discrepancies (e.g., cracking, loose/sheared fasteners, distortion) of the upper skin and rib feet of the outer wing boxes, and repair if necessary. AD 2006-07-26 resulted from a report of cracking on the upper skin and ribs of the outer wing box on an in-service airplane. We issued AD 2006-07-26 to detect and correct discrepancies of the upper skin and rib feet of the outer wing boxes, which could result in reduced structural integrity of the airplane.

Actions Since AD 2006-07-26 Was Issued

Since we issued AD 2006-07-26, we have received additional reports of cracking on the upper skin and ribs of the outer wing box on other Model ATR42 airplanes.

The European Aviation Safety Agency (EASA), which is the Technical Agent for the Member States of the European Union, has issued EASA Airworthiness Directive 2017-0244, dated December 7, 2017 (referred to after this as the Mandatory Continuing Airworthiness Information, or “the MCAI”), to correct an unsafe condition for all ATR-GIE Avions de Transport Régional Model ATR42 airplanes. The MCAI states:

Occurrence was reported of detecting cracks on the wing of one in-service ATR 42 aeroplane in 2004. The cracks were found on the upper feet of ribs and on the upper skin of the wing outer boxes.

This condition, if not detected and corrected, could adversely affect the structural integrity of the aeroplane.

To address this potential unsafe condition, ATR issued Service Bulletin (SB) ATR42-57-0064 to provide inspection instructions and DGAC [Direction Générale de l'Aviation Civile] France issued [French] AD F-2004-191 (EASA approval 2004-12117) [which corresponds to FAA AD 2006-07-26] to require, for aeroplanes having accumulated more than 4,000 flight cycles (FC), a one-time Detailed Visual Inspection (DVI) of outer wing box upper skin and upper rib feet, on the right hand (RH) and left hand (LH) sides, from rib 24 to rib 29. After that [French] AD was issued, based on inspection results (all aeroplanes inspected, no similar case found), it was determined that these cracks were an isolated case.

More recently, three other cases were reported, indicating that this may not be an isolated case and that cracks could occur in this area of the wings on other ATR 42 aeroplanes. Consequently, ATR published SB ATR42-57-0074 (hereafter referred as `ATR SB' in this [EASA] AD) to provide inspection instructions.

For the reasons described above, this [EASA] AD supersedes DGAC France AD F-2004-191 and requires repetitive DVI of the same wing areas and, depending on findings, accomplishment of a repair.

This proposed AD would also require, after each inspection, reporting the inspection findings, both positive and negative, to ATR-GIE Avions de Transport Régional.

You may examine the MCAI in the AD docket on the internet at http://www.regulations.gov by searching for and locating Docket No. FAA-2018-0494.

Related Service Information Under 1 CFR Part 51

ATR-GIE Avions de Transport Régional has issued ATR Service Bulletin ATR42-57-0074, dated October 19, 2017. This service information describes procedures for inspecting the upper skin and rib feet of the outer wing boxes for discrepancies. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 37 airplanes of U.S. registry. We estimate the following costs to comply with this proposed AD:

Estimated Costs
Action | Labor cost | Parts cost | Cost per product | Cost on U.S. operators
Inspection | 6 work-hours × $85 per hour = $510 per inspection cycle | $0 | $510 per inspection cycle | $18,870 per inspection cycle.
Reporting | 1 work-hour × $85 per hour = $85 per inspection cycle | 0 | $85 | $3,145 per inspection cycle.

We have received no definitive data that would enable us to provide cost estimates for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-07-26, Amendment 39-14553 (71 FR 18205, April 11, 2006), and adding the following new AD:

ATR-GIE Avions de Transport Régional: Docket No. FAA-2018-0494; Product Identifier 2017-NM-182-AD.

(a) Comments Due Date

We must receive comments by July 16, 2018.

(b) Affected ADs

This AD replaces AD 2006-07-26, Amendment 39-14553 (71 FR 18205, April 11, 2006) (“AD 2006-07-26”).

(c) Applicability

This AD applies to ATR-GIE Avions de Transport Régional Model ATR42-200, -300, -320, and -500 airplanes, certificated in any category, all manufacturer serial numbers.

(d) Subject

Air Transport Association (ATA) of America Code 57, Wings.

(e) Reason

This AD was prompted by reports of cracking of the upper skin and rib feet of the outer wing boxes, and more recent reports of such cracking on additional Model ATR42 airplanes. We are issuing this AD to detect and correct discrepancies (e.g., cracking, loose/sheared fasteners, distortion) of the upper skin and rib feet of the outer wing boxes, which could result in reduced structural integrity of the airplane.

(f) Compliance

Comply with this AD within the compliance times specified, unless already done.

(g) Repetitive Inspections

Within the initial compliance time specified in table 1 to paragraph (g) of this AD, and thereafter at intervals not to exceed 48 months or 6,000 flight cycles, whichever occurs first: Do a detailed visual inspection for discrepancies of the left-hand and right-hand wing outer wing box upper skin panels and rib upper feet between rib 24 to rib 29. Do the inspection in accordance with the Accomplishment Instructions of ATR Service Bulletin ATR42-57-0074, dated October 19, 2017.

(h) Corrective Actions

If any discrepancy is found during any inspection required by paragraph (g) of this AD: Before further flight, repair using a method approved by the Manager, International Section, Transport Standards Branch, FAA; or the European Aviation Safety Agency (EASA); or ATR-GIE Avions de Transport Régional's EASA Design Organization Approval (DOA). If approved by the DOA, the approval must include the DOA-authorized signature. Do the repair within the compliance time specified in the approved repair method.

(i) Reporting

At the applicable time specified in paragraph (i)(1) or (i)(2) of this AD: Report all findings (both positive and negative) of the inspections required by paragraph (g) of this AD to ATR-GIE Avions de Transport Régional, using the information in ATR Service Bulletin ATR42-57-0074, dated October 19, 2017.

(1) If the inspection was done on or after the effective date of this AD: Submit the report within 30 days after performing the inspection.

(2) If the inspection was done before the effective date of this AD: Submit the report within 30 days after the effective date of this AD.

(j) Repair Is Not Terminating Action

Unless the repair instructions specify otherwise, repair of an airplane as required by paragraph (h) of this AD is not considered terminating action for the repetitive detailed visual inspections required by paragraph (g) of this AD.

(k) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(l) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or ATR-GIE Avions de Transport Régional s EASA DOA. If approved by the DOA, the approval must include the DOA-authorized signature.

(m) Related Information

(1) Refer to Mandatory Continuing Airworthiness Information (MCAI) EASA Airworthiness Directive 2017-0244, dated December 7, 2017, for related information. This MCAI may be found in the AD docket on the internet at http://www.regulations.gov by searching for and locating Docket No. FAA-2018-0494.

(2) For more information about this AD, contact Shahram Daneshmandi, Aerospace Engineer, International Section, Transport Standards Branch, FAA, 2200 South 216th St., Des Moines, WA 98198; telephone and fax 206-231-3220.

(3) For service information identified in this AD, contact ATR-GIE Avions de Transport Régional, 1 Allée Pierre Nadot, 31712 Blagnac Cedex, France; telephone +33 (0) 5 62 21 62 21; fax +33 (0) 5 62 21 67 18; email continued.airworthiness@atr-aircraft.com. You may view this service information at the FAA, Transport Standards Branch, 2200 South 216th St., Des Moines, WA. For information on the availability of this material at the FAA, call 206-231-3195.

Issued in Des Moines, Washington, on May 23, 2018.
James Cashdollar,
Acting Director, System Oversight Division, Aircraft Certification Service.

[FR Doc. 2018-11692 Filed 5-31-18; 8:45 am]

BILLING CODE 4910-13-P